DEPARTMENT OF HEALTH AND HUMAN SERVICES

Administration for Children and Families

Subject for OMB Review; Comment Request

Title: Evaluation of the Early Head Start Fatherhood Demonstration.

OMB No.: New Collection.

Description: ACYF, in partnership with the Office of Child Support Enforcement (OCSE), recently funded 21 Early Head Start grantees to develop and implement creative practices to increase the involvement of fathers in their Early Head Start program and in the lives of their children. This submission requests approval to conduct the survey of demonstration staff and to collect father participation data from the demonstration programs.

Respondents: To reduce the burden of demonstration staff, the survey will be configured in four versions. The Director Version will be completed by the Early Head Start program directors. The Father Coordinator Version will be completed by the staff member responsible for father activities. The Family Specialist Version will be completed by the staff member who works most closely with the Early Head Start families in the home. The Teacher Version will be completed by the staff member working with families of children participating in the Early Head Start child care programs.

Annual Burden Estimates
Instrument | Number of respondents | Number of responses per respondent | Average burden hours per response | Total burden hours
“4 Versions” | 76 | 2 | .296 | 45
Estimated Total Annual Burden Hours |  |  |  | 45

Additional Information: Copies of the proposed collection may be obtained by writing to The Administration for Children and Families, Office of Information Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: February 6, 2002.
Bob Sargis,
Reports Clearance Officer.

[FR Doc. 02-3350 Filed 2-11-02; 8:45 am]

BILLING CODE 4184-01-M